DEPARTMENT OF THE INTERIOR

Bureau of Land Management

[AZ-010-2000-1610]

Arizona Strip District Resource Plan: Intent To Amend

AGENCY: Bureau of Land Management, Interior.

ACTION: Notice of intent to amend the Arizona Strip Resource Management Plan, Arizona.

SUMMARY: Pursuant to the BLM Planning Regulations (43 CFR 1600) this notice advises the public that the Arizona Strip Field Office, Bureau of Land Management, is proposing to amend the Arizona Strip Resource Management Plan to establish allowable resource uses on the Lee's Ferry Allotment. This notice supercedes and replaces a previous similar notice published in the Federal Register (Vol. 62, No. 247, page 67401) on December 24, 1997. In accordance with 43 CFR part 4100.0-8 “The authorized officer shall manage livestock grazing on public lands under the principle of multiple use and sustained yield, and in accordance with the applicable land use plans. Land use plans shall establish allowable resource uses (either singly or in combination), related levels of production or use to be maintained, areas of use, * * *”. The Bureau of Land Management, in cooperation with the current holder of the grazing privileges associated with the Lee's Ferry Allotment, desires to retire some or all of the associated grazing privileges in order to enhance wilderness values and to alleviate conflicts between livestock and recreation use in the Paria River Canyon corridor.

The main issues anticipated in this plan amendment are: (1) Potential impacts on recreational opportunities; (2) and potential impacts on the socio-economics of Coconino County, Arizona.

This amendment is limited to the area contained within the Lee's Ferry Allotment on the Arizona Strip.

A land use plan amendment and environmental analysis will be prepared for the subject lands by an interdisciplinary team including range, wildlife, and recreation specialists.

DATES: Interested parties may submit comments to the Field Manager at the address shown below on or before April 12, 2000.

FOR FURTHER INFORMATION CONTACT: Phil Seegmiller, Arizona Strip Field Office, Bureau of Land Management, 345 E. Riverside Drive, St. George, Utah 84790, (435) 688-3222 to obtain additional information regarding this plan amendment. Existing land use plans and maps of the subject area are available for review at the Interagency Office in St. George, Utah.

Roger G. Taylor,
Field Manager.

[FR Doc. 00-6057 Filed 3-10-00; 8:45 am]

BILLING CODE 4310-32-P